DEPARTMENT OF COMMERCE

National Oceanic and Atmospheric Administration

RIN 0648-XD140

Fisheries of the South Atlantic; South Atlantic Fishery Management Council; Public Meetings

AGENCY: National Marine Fisheries Service (NMFS), National Oceanic and Atmospheric Administration (NOAA), Commerce.

ACTION: Notice of South Atlantic Wreckfish stock assessment peer review meetings.

SUMMARY: The South Atlantic Fishery Management Council (Council) will hold a meeting via webinar to peer review an assessment of the South Atlantic Wreckfish stock.

DATES: The Wreckfish assessment peer review will be held via a series of webinars from 9 a.m. on Monday, March 17, 2014 through 5 p.m. on Wednesday, March 19, 2014.

ADDRESSES:

Meeting address: The meetings will be held via webinar. The webinar is open to members of the public. Those interested in participating should contact John Carmichael at the Council (see FOR FURTHER INFORMATION CONTACT below) to request an invitation providing webinar access information. Please request webinar invitations at least 24 hours in advance of the webinar.

Council address: South Atlantic Fishery Management Council, 4055 Faber Place Drive, Suite 201, N. Charleston, SC 29405.

FOR FURTHER INFORMATION CONTACT: John Carmichael; 4055 Faber Place Drive, Suite 201, North Charleston, SC 29405; telephone: (843) 571-4366 or toll free (866) SAFMC-10; fax: (843) 769-4520; email: john.carmichael@safmc.net.

SUPPLEMENTARY INFORMATION: This meetings are being held to provide a peer review of a stock assessment of Wreckfish in the South Atlantic. In accordance with the Peer Review Policy approved by the Council, the Scientific and Statistical Committee (SSC) reviewed a proposal to assess the Wreckfish resource and recommended process for peer review. The assessment is expected to be completed by mid-February, 2014. The peer review will be based on Terms of Reference approved by the Council.

The items in the agenda are as follows:

1. Receive a presentation of assessment findings.

2. Discuss the assessment.

3. Make peer review recommendations.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

The meetings are physically accessible to people with disabilities. Requests for sign language interpretation or other auxiliary aids should be directed to the Council office (see ADDRESSES) at least 10 business days prior to the meeting.

Note: The times and sequence specified in this agenda are subject to change.

Authority: 16 U.S.C. 1801 et seq.

Dated: February 14, 2014.
Tracey L. Thompson,
Acting Deputy Director, Office of Sustainable Fisheries, National Marine Fisheries Service.

[FR Doc. 2014-03656 Filed 2-19-14; 8:45 am]

BILLING CODE 3510-22-P